DEPARTMENT OF LABOR

Employment and Training Administration

[TA-W-62,882]

Glaxosmithkline, Including On-Site Temporary and Leased Workers From Kelly Services, Kelly Scientific Resources, Atwork Personnel Services, Five Star Food Service Currently Known as GTS-Greater Tri City Services, Universal Services Company, Hodge Electrical Contractors, Pharmasys, Validation System Solutions, Tele-Optics and Dream Clean, Inc., Bristol, TN; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Assistance on June 26, 2008, applicable to workers of Glaxosmithkline including on-site temporary and leased workers from Kelly Services, Kelly Scientific Resources, Atwork Personnel Services, Five Star Food Service currently known as GTS-Greater Tri City Services, Universal Services Company, Hodge Electrical Contractors, Pharmasys, Validation System Solutions, and Tele-Optics, Bristol, Tennessee. The notice was published in the Federal Register on July 15, 2008 (73 FR 40619).

At the request of the company official, the Department reviewed the certification for workers of the subject firm. The workers are engaged in the production of penicillin-based antibiotics for humans and animals.

The company reports that on-site leased workers from Dream Clean, Inc. were employed on-site at the Bristol, Tennessee location of Glaxosmithkline. The Department has determined that these workers were sufficiently under the control of the subject firm to be considered leased workers.

Based on these findings, the Department is amending this certification to include workers leased from Dream Clean, Inc. working on-site at the Bristol, Tennessee location of Glaxosmithkline.

The amended notice applicable to TA-W-62,882 is hereby issued as follows:

All workers of Glaxosmithkline including on-site temporary and leased workers from Kelly Services, Kelly Scientific Resources, Atwork Personnel Services, Five Star Food Service currently known as GTS-Great Tri City Services, Universal Services Company, Hodge Electrical Contractors, Pharmasys, Validation System Solutions, Tele-Optics and Dream Clean, Inc., Bristol, Tennessee who became totally or partially separated from employment on or after April 9, 2007, through June 26, 2010, are eligible to apply for adjustment assistance under Section 223 of the Trade Act of 1974, and are also eligible to apply for alternative trade adjustment assistance under Section 246 of the Trade Act of 1974.

Signed at Washington, DC this 31st day of December 2009.
Richard Church,
Certifying Officer, Division of Trade Adjustment Assistance.

[FR Doc. 2010-894 Filed 1-19-10; 8:45 am]

BILLING CODE 4510-FN-P